DEPARTMENT OF COMMERCE

International Trade Administration

[A-428-830]

Stainless Steel Bar from Germany: Notice of Rescission of Antidumping Duty New Shipper Review

AGENCY: Import Administration, International Trade Administration, Department of Commerce.

SUMMARY: The Department of Commerce (“the Department”) is rescinding the new shipper review of the antidumping duty order on stainless steel bar from Germany manufactured by Flanschenwerk Bebitz GmbH (“Flanschenwerk”). The period of review (“POR”) covers March 1, 2007, through August 31, 2007. This order was revoked as a result of a sunset proceeding and the effective date of revocation is prior to the U.S. entry made by Flanschenwerk subject to this new shipper review.

EFFECTIVE DATE: March 25, 2008.

FOR FURTHER INFORMATION CONTACT: Brandon Farlander, AD/CVD Operations, Office 1, Import Administration, International Trade Administration, U.S. Department of Commerce, 14th Street and Constitution Avenue, NW, Washington, DC 20230; telephone (202) 482-0182.

SUPPLEMENTARY INFORMATION:

Background

On March 7, 2002, the Department published an antidumping duty order on stainless steel bar from Germany. See Notice of Amended Final Determination of Sales at Less Than Fair Value and Antidumping Duty Order: Stainless Steel Bar from Germany, 67 FR 10382 (March 7, 2002) (“Investigation Final”). On October 10, 2003, the Department published an amended antidumping duty order on stainless steel bar from Germany. See Notice of Amended Antidumping Duty Orders: Stainless Steel Bar from France, Germany, Italy, Korea, and the United Kingdom, 68 FR 58660 (October 10, 2003).

On October 1, 2007, we received a request for a new shipper review from Flanschenwerk for the period March 1, 2007, through August 31, 2007. We initiated the review on October 26, 2007. See Notice of Initiation of New Shipper Antidumping Duty Review: Stainless Steel Bar from Germany, 72 FR 60807 (October 26, 2007). On December 20, 2007, Flanschenwerk responded to Section A of the antidumping questionnaire.

On February 1, 2007, the Department initiated, and the U.S. International Trade Commission (“ITC”) instituted, a sunset review of the antidumping duty order on stainless steel bar from Germany. See Initiation of Five-Year (“Sunset”) Reviews, 72 FR 4689 (February 1, 2007). As a result of its sunset review, the Department found that revocation of the antidumping duty order on stainless steel bar from Germany would be likely to lead to the continuation or recurrence of dumping. See Stainless Steel Bar from Germany; Final Results of the Sunset Review of the Antidumping Duty Order, 72 FR 56985 (October 5, 2007).

On January 31, 2008, the ITC determined that revocation of the order on stainless steel bar from Germany would not be likely to lead to continuation or recurrence of material injury to an industry in the United States within a reasonably foreseeable time. See Stainless Steel Bar From France, Germany, Italy, Korea, and The United Kingdom, 73 FR 5869 (January 31, 2008) and USITC Publication 3981 (January 2008), entitled Stainless Steel Bar from France, Germany, Italy, Korea, and the United Kingdom (Inv. Nos. 701-TA-413 and 731-TA-913-916 & 918 (Review)). As a result of the determination by the ITC that revocation of the order on stainless steel bar from Germany is not likely to lead to the continuation or recurrence of material injury to an industry in the United States, the Department, pursuant to section 751(d) of the Tariff Act of 1930, as amended (“the Act”), revoked the antidumping duty order on stainless steel bar from Germany. See Revocation of Antidumping Duty Orders on Stainless Steel Bar From France, Germany, Italy, South Korea, and the United Kingdom and the Countervailing Duty Order on Stainless Steel Bar From Italy, 73 FR 7258 (February 7, 2008) (“Stainless Steel Bar Revocation Notice”).

As a result of the ITC's vote to revoke the antidumping duty order on stainless steel bar from Germany on January 8, 2008, Flanschenwerk submitted an extension request, also on January 8, 2008, for filing its Sections B and C questionnaire responses until the Department published its revocation notice of this order. On March 17, 2008, Flanschenwerk withdrew its new shipper review request.

Scope of the Order

For the purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar (“SSB”) includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The SSB subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Rescission of Review

Flanschenwerk's POR U.S. entry occurred after the effective date of revocation of the order, which was March 7, 2007. Further, the Department has already issued its revocation instructions to the U.S. Customs and Border Protection, which will liquidate this entry without regard to antidumping duties (i.e., release all bonds and refund all cash deposits, with interest). See Stainless Steel Bar Revocation Notice. Because Flanschenwerk has no additional U.S. entries to review during the POR, we are rescinding this new shipper review. No liquidation instructions are necessary because the Department has already issued its revocation instructions, which will result in the liquidation of Flanschenwerk's U.S. entry. In addition, because this order is now revoked, no cash deposit instructions are necessary.

Notification Regarding Administrative Protective Orders

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 777(i) of the Act and 19 CFR 351.214(f)(3).

Dated: March 18, 2008.
Stephen J. Claeys,
Deputy Assistant Secretary for Import Administration.

[FR Doc. E8-6042 Filed 3-24-08; 8:45 am]

BILLING CODE 3510-DS-S